DEPARTMENT OF THE INTERIOR

Fish and Wildlife Service

Receipt of Application for Incidental Take Permit for Construction of a Single-Family Home, Brevard County, FL

AGENCY: Fish and Wildlife Service, Interior.

ACTION: Notice; request for comments.

SUMMARY: We, the Fish and Wildlife Service (Service), announce the availability of an incidental take permit (ITP) application and Habitat Conservation Plan (HCP). Lawrence Bank (Applicant) requests an ITP, for a 2-year term, for an individual lot pursuant to section 10(a)(1)(B) of the Endangered Species Act of 1973, as amended (Act). The Applicant anticipates taking about .25 acres of Florida scrub-jay (Aphelocoma coerulescens) (scrub-jay) foraging and sheltering habitat incidental to lot preparation for the construction of one single-family home and supporting infrastructure in Brevard County, Florida (Projects). The destruction of .25 acres of foraging and sheltering habitat is expected to result in the take of one family of scrub-jays. The Applicant's Habitat Conservation Plan (HCP) describes the mitigation and minimization measures proposed to address the effects of the Project to the Florida scrub-jay.

DATES: Written comments on the ITP application and HCP should be sent to the Jacksonville Field Office (see ADDRESSES) and should be received on or before August 23, 2006.

ADDRESSES: Persons wishing to review the application and HCP may obtain a copy by writing the Service's Jacksonville Field Office. Please reference permit number TE128564-0 in such requests. Documents will also be available for public inspection by appointment during normal business hours at the Jacksonville Field Office, 6620 Southpoint Drive South, Suite 310, Jacksonville, Florida 32216-0912.

FOR FURTHER INFORMATION CONTACT: Mr. Michael Jennings, Fish and Wildlife Biologist, Jacksonville Field Office, Jacksonville, Florida (see ADDRESSES), telephone: 904/232-2580, ext. 113.

SUPPLEMENTARY INFORMATION: If you wish to comment, you may submit comments by any one of several methods. Please reference permit number TE128564-0 in such requests. You may mail comments to the Service's Jacksonville Field Office (see ADDRESSES). You may also comment via the Internet to michael_jennings@fws.gov. Please include your name and return address in your internet message. If you do not receive a confirmation from us that we have received your internet message, contact us directly at the telephone number listed under FOR FURTHER INFORMATION CONTACT. Finally, you may hand deliver comments to the Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Residential construction will take place within section 02, Township 24 South, Range 35 East, Cocoa, Brevard County, Florida, on lot 14, Block 28. This lot is within locations where scrub-jays were sighted during surveys for this species from 1999 through 2003.

The lot encompasses about 1.00 acres, of which .25 acres will be used for the footprint of the home, infrastructure, and landscaping. The remaining .75 acres will be retained as scrub-jay habitat. In order to minimize take on site, the Applicant proposes to preserve the remaining .75 acres of scrub habitat on site and not clear the property or begin construction until the completion of the nesting season (March 1-June 30).

The Applicant proposes to mitigate for the loss of .25 acres of scrub-jay habitat by contributing a total of $4,200 to the Florida Scrub-jay Conservation Fund administered by The Nature Conservancy. Funds in this account are ear-marked for use in the conservation and recovery of scrub-jays and may include habitat acquisition, restoration, and/or management.

The Service has determined that the Applicant's proposal, including the proposed mitigation and minimization measures, will have a minor or negligible effect on the species covered in the HCP. Therefore, the ITP is a “low-effect” project and qualifies as a categorical exclusion under the National Environmental Policy Act (NEPA), as provided by the Department of the Interior Manual (516 DM 2, Appendix 1 and 516 DM 6, Appendix 1). This preliminary information may be revised based on our review of public comments that we receive in response to this notice. Low-effect HCPs are those involving (1) minor or negligible effects on federally listed or candidate species and their habitats, and (2) minor or negligible effects on other environmental values or resources.

The Service will evaluate the HCP and comments submitted thereon to determine whether the application meets the requirements of section 10(a) of the Act (16 U.S.C. 1531 et seq.). If it is determined that those requirements are met, the ITP will be issued for the incidental take of the Florida scrub-jay. The Service will also evaluate whether issuance of the section 10(a)(1)(B) ITP complies with section 7 of the Act by conducting an intra-Service section 7 consultation. The results of this consultation, in combination with the above findings, will be used in the final analysis to determine whether or not to issue the ITP.

Authority: This notice is provided pursuant to section 10 of the Endangered Species Act and NEPA regulations (40 CFR 1506.6).

Dated: July 18, 2006.
David L. Hankla,
Field Supervisor, Jacksonville Field Office.

[FR Doc. E6-11721 Filed 7-21-06; 8:45 am]

BILLING CODE 4310-55-P